FEDERAL COMMUNICATIONS COMMISSION

[Report No. AUC-02-46-B (Auction No. 46); DA 02-1628]

Auction No. 46 Revised License Inventory and Auction Start Date; Comment Sought on Revisions to Auction Procedures

AGENCY: Federal Communications Commission.

ACTION: Notice.

SUMMARY: This document revises the license inventory and starting date for Auction No. 46. This document also seeks comment on revisions to the Bureau's proposed procedures for Auction No. 46. With the exception of the changes described in the Auction No. 46 Revised License Inventory and Auction Start Date Public Notice, the Bureau's proposed procedures for Auction No. 46 remain unchanged from the Auction No. 46 Comment Public Notice released on May 24, 2002.

DATES: Comments were due on or before July 22, 2002, and reply comments are due on or before July 29, 2002.¹

¹ This document was received by the Office of the Federal Register on July 25, 2002.

ADDRESSES: Because of the disruption of regular mail and other deliveries in Washington, DC, the Bureau requires that all comments and reply comments be filed electronically. Comments and reply comments must be sent by electronic mail to the following address: auction46@fcc.gov.

FOR FURTHER INFORMATION CONTACT: Auctions and Industry Analysis Division: For legal questions: Francis Gutierrez (202) 418-0660. For general auction questions: Lyle Ishida (202) 418-0660 or Lisa Stover (717) 338-2888. For service rule questions: Brian Marenco (202) 418-0838.

SUPPLEMENTARY INFORMATION: This is a summary of the Auction No. 46 Revised License Inventory and Auction Start Date Public Notice released on July 15, 2002. The complete text of the Auction No. 46 Revised License Inventory and Auction Start Date Public Notice is available for public inspection and copying during regular business hours at the FCC Reference Information Center, Portals II, 445 12th Street, SW, Room CY-A257, Washington, DC, 20554. The Auction No. 46 Revised License Inventory and Auction Start Date Public Notice may also be purchased from the Commission's duplicating contractor, Qualex International, Portals II, 445 12th Street, SW., Room CY-B402, Washington, DC, 20554, telephone 202-863-2893, facsimile 202-863-2898, or via e-mail qualexint@aol.com.

Revised Auction No. 46 License Inventory

1. The Auction No. 46 Comment Public Notice, 67 FR 42773 (June 25, 2002), announced that Auction No. 46 would include licenses in the paired 1392-1395 and 1432-1435 MHz bands and in the unpaired 1390-1392 MHz, 1670-1675 MHz, and the 2385-2390 MHz bands. The Auction No. 46 license inventory has been revised and only the 1670-1675 MHz band nationwide license will be offered in Auction No. 46. Dates for the auction of licenses in the paired 1392-1395 and 1432-1435 MHz bands and the unpaired 1390-1392 MHz and 2385-2390 MHz bands will be announced by separate public notice.

New Auction Start Date

2. Auction No. 46 will begin on October 30, 2002. A complete list of all relevant dates for the auction will be provided in a subsequent public notice.

Activity Rules

3. In order to ensure that the auction closes within a reasonable period of time, the Commission establishes activity rules that require bidders to bid actively on a percentage of their maximum bidding eligibility during each round of the auction rather than wait until the end to participate. A bidder that does not satisfy the activity rule will either lose bidding eligibility in the next round or must use an activity rule waiver (if any remain).

4. In the Auction No. 46 Comment Public Notice the Bureau proposed to divide Auction No. 46 into three stages, each characterized by an increased activity requirement. However, in light of the reduction in the number of licenses that will be available in Auction No. 46, the Bureau proposes a single stage auction with the following activity requirement: in each round, a bidder desiring to maintain eligibility to participate in the auction is required to be active on one hundred (100) percent of its bidding eligibility. Failure to maintain the requisite activity level will result in the use of an activity rule waiver, if any remain; if a bidder has no activity rule waivers remaining, its eligibility will be reduced, effectively eliminating the bidder from the auction. The Bureau seeks comment on this proposal.

Activity Rule Waivers and Reducing Eligibility

5. In the Auction No. 46 Comment Public Notice the Bureau proposed that each bidder be provided with five activity rule waivers. The Bureau believes that in a single stage auction of one license, it will not be necessary to allow five activity rule waivers. Therefore the Bureau proposes to limit each bidder to two activity rule waivers that may be used at the bidder's discretion during the course of the auction, as described in the Auction No. 46 Comment Public Notice. The Bureau seeks comment on this proposal.

Information Regarding Bid Withdrawal

6. In the Auction No. 46 Comment Public Notice the Bureau proposed to limit each bidder to withdrawing standing high bids in no more than two rounds during the course of the auction. As noted in the Auction No. 46 Comment Public Notice, the Commission has previously explained that allowing bid withdrawals facilitates efficient aggregation of licenses and the pursuit of efficient backup strategies as information becomes available during the course of an auction. In Auction No. 46, however, aggregation of licenses will not be possible because only a single license will be auctioned. Accordingly, for this auction, the Bureau proposes that bidders not be permitted to withdraw bids in any round. The Bureau seeks comment on this proposal.

Conclusion

7. Comments are due on or before July 22, 2002, and reply comments are due on or before July 29, 2002. Because of the disruption of regular mail and other deliveries in Washington, DC, the Bureau requires that all comments and reply comments be filed electronically. Comments and reply comments must be sent by electronic mail to the following address: auction46@fcc.gov. The electronic mail containing the comments or reply comments must include a subject or caption referring to Auction No. 46 Comments. The Bureau requests that parties format any attachments to electronic mail as Adobe® Acrobat® (pdf) or Microsoft® Word documents. Copies of comments and reply comments will be available for public inspection during regular business hours in the FCC Public Reference Room, Room CY-A257, 445 12th Street, SW., Washington, DC 20554. In addition, the Bureau requests that commenters fax a courtesy copy of their comments and reply comments to the attention of Kathryn Garland at (717) 338-2850.

8. This proceeding has been designated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other rules pertaining to oral and written ex parte presentations in permit-but-disclose proceedings are set forth in section 1.1206(b) of the Commission's rules.

Federal Communication Commission.
Margaret Wiener,
Chief, Auctions and Industry Analysis Division, WTB.

[FR Doc. 02-19177 Filed 7-26-02; 8:45 am]

BILLING CODE 6712-01-P